DEPARTMENT OF JUSTICE

Office of Community Oriented Policing Services

Agency Information Collection Activities: Proposed Collection; Comments Requested

ACTION: Notice of information collection under review; Reinstatement, with change, of a previously approved collection for which approval has expired; COPS MORE (Making Officer Redeployment Effective) '98 Progress Report.

The Department of Justice, Office of Community Oriented Policing Service, has submitted the following information collection request for review and clearance in accordance with the Paperwork Reduction Act of 1995. This proposed information collection is published to obtain comments from the public and affected agencies. Comments are encouraged and will be accepted for “sixty days” until May 14, 2001.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumption used;

(3) Enhance the quality, utility, and clarity of the information to collected; and

(4) Minimize the burden of the collection of information on those who are to respond, including through the use of appropriate automated, electronic, mechanical, or other technological collection techniques or other forms of information technology, e.g., permitting electronic submission of responses.

Written comments and/or suggestions regarding the items contained in this notice, especially regarding the estimated public burden and associated response time, should be directed to the Office of Management and Budget, Office of Regulatory Affairs, Attention: Department of Justice Desk Officer, Washington, DC 20530. Additionally, comments may be submitted to OMB via facsimile to 202-395-7285. Written comments may also be submitted to Sarah Hosemann, Management Analyst, Office of Community Oriented Policing Services, 1100 Vermont Avenue, NW., Washington, DC 20530, or via facsimile at (202) 514-2913.

Overview of This Information Collection

(1) Type of Information Collection: Reinstatement, with change, of a previously approved collection for which approval has expired.

(2) Title of the Form/Collection: COPS MORE (Making Officer Redeployment Effective) '98 Progress Report.

(3) Agency form number, if any, and the applicable component of the Department of Justice sponsoring the collection: Form: COPS 037/01. Office of Community Oriented Policing Services, U.S. Department of Justice.

(4) Affected public who will be asked or required to respond, as well as a brief abstract: Primary: State, Local or Tribal Government Agencies that have received funding under the COPS MORE '98 grant program are required to respond.

The information collected on the COPS MORE '98 Progress Report is necessary track summary data on the characteristics of the civilians hired, and/or the equipment purchased with COPS funding and to monitor the progress of the grantee in implementing their COPS MORE '98 Grant. In addition, submission of the COPS MORE '98 Progress Report will assist the COPS Office in identifying recipients which may be in need of technical assistance concerning the proper utilization of their COPS MORE '98 Grant Award.

(5) An estimate of the total number of respondents and the amount of time estimated for an average respondent to respond: COPS MORE '98 Progress Report: Approximately 1,830 respondents, at 5 hours per respondent (including record-keeping).

(6) An estimate of the total public burden (in hours) associated with the collection: The approximated number of burden hours associated with this information collection is 9,150 hours.

FOR FURTHER INFORMATION CONTACT: Mrs. Brenda E. Dyer, Deputy Clearance Officer, United States Department of Justice, Information Management and Security Staff, Justice Management Division, National Place, Suite 1220, 1331 Pennsylvania, NW., Washington, DC 20530.

Dated: March 7, 2001.
Brenda E. Dyer,
Department Clearance Officer, Department of Justice.

[FR Doc. 01-6332 Filed 3-13-01; 8:45 am]

BILLING CODE 4410-AT-M